NUCLEAR REGULATORY COMMISSION

[NRC-2013-0184; Docket No. 70-0036]

Environmental Assessment and Finding of No Significant Impact Related to an Alternative Disposal Request of Westinghouse Electric Company, LLC; Hematite Decommissioning Project; Festus, Missouri

AGENCY: Nuclear Regulatory Commission.

ACTION: Environmental assessment and finding of no significant impact; availability.

SUMMARY: The U.S. Nuclear Regulatory Commission (NRC) is considering issuance of a license amendment to special nuclear material (SNM) license number SNM-33 issued to Westinghouse Electric Company, LLC for the former Hematite Fuel Cycle Facility in Festus, Missouri authorizing alternative disposal of soil and soil-like wastes at the US Ecology Idaho, Inc. (USEI) disposal facility located near Grand View, Idaho. In addition, the NRC is considering the issuance of an exemption to USEI so that it may accept the waste for disposal. This exemption is required so that USEI may accept NRC regulated material under its Idaho Department of Environmental Quality license. The NRC has prepared an Environmental Assessment (EA) for this proposed action and has concluded that a Finding of No Significant Impact is appropriate with respect to the proposed action.

ADDRESSES: Please refer to Docket ID NRC-2013-0184 when contacting the NRC about the availability of information regarding this document. You may access publicly-available information related to this action by the following methods:

• Federal Rulemaking Web site: Go to http://www.regulations.gov and search for Docket ID NRC-2013-0184. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: John J. Hayes, Office of Federal and State Materials and Environmental Management Programs, U.S. Nuclear Regulatory Commission, Washington, DC 20555-0001; telephone: 301-415-5928; email: John.Hayes@nrc.gov.

SUPPLEMENTARY INFORMATION:

I. Introduction

The NRC received a license amendment application from Westinghouse Electric Company, LLC (WEC or the licensee), dated May 28, 2013 (ADAMS Accession No. ML13149A291). The licensee requests: (1) NRC authorization for disposal, pursuant to § 20.2002 of Title 10 of the Code of Federal Regulations (10 CFR), of an additional 22,000 m³ (cubic meters) of soil and soil-like material containing NRC-licensed source, byproduct, and special nuclear materials from its former fuel cycle facility located in Festus, Missouri; (2) NRC approval for the treatment, as needed, for removal of chemical contaminants from the 22,000 m³ or from the material associated with the previous approvals of approximately 46,000 m³ of Hematite waste for alternate disposal; and (3) NRC authorization for disposal of dewatered sanitary sludge as soil-like material. The licensee holds NRC License No. SNM-33 and is authorized to conduct decommissioning activities at the facility. The amendment requests authorization for WEC to transfer decommissioning waste from the facility to US Ecology Idaho, Inc. (USEI), a Resource Conservation and Recovery Act Subtitle C disposal facility located near Grand View, Idaho. The USEI facility is regulated by the Idaho Department of Environmental Quality and is not an NRC-licensed facility. Pursuant to 10 CFR 30.11 and 70.17, WEC's application provided information to support the grant of exemptions from the licensing requirements of 10 CFR 30.3 and 70.3 for byproduct and special nuclear material, respectively, to USEI so that USEI may accept the material under the terms of its facility permits. In a letter dated June 5, 2013, USEI also formally requested an exemption from the requirements of 10 CFR 30.3 and 70.3 (ADAMS Accession No. ML13227A016).

An NRC administrative review, documented in a letter to WEC dated June 11, 2013 (ADAMS Accession No. ML13161A067), found the application acceptable to begin a technical review. On August 23, 2013 (78 FR 52574), the NRC published in the Federal Register, a Notice of Opportunity for Hearing on the May 28, 2013 (ADAMS Accession No. ML13170A434), WEC license amendment request. The NRC relied upon the information provided in the May 28, 2013, license amendment request, supporting documentation and other sources as noted in the EA references section, in preparing the EA.

II. Environmental Assessment Summary

The WEC Hematite Decommissioning Project (HDP) is a decommissioning and environmental restoration project that will generate low-activity, low-level radioactive waste (LLRW) in the form of concrete/asphalt, piping, miscellaneous equipment, soil and soil-like wastes containing low concentrations of source, byproduct and special nuclear material (SNM). There is also the potential that this LLRW will contain hazardous constituents, such as metals and volatile organics, that exceed the levels identified in 40 CFR Part 261 for classification as hazardous waste and will require treatment at USEI prior to disposal. The need for the proposed action is the safe and permanent disposal of HDP's LLRW.

Under 10 CFR 20.2002, WEC proposes to dispose of this LLRW at the USEI hazardous waste disposal facility near Grand View, Idaho. The facility occupies Section 19 (2.59 square kilometers or 640 acres) of Township 4 South and Range 2 East in Owyhee County Idaho. This disposal is in addition to the approximately 23,000 m³ (30,000 yd³) of LLRW which was approved for alternate disposal by Hematite License Amendment 58 and the 23,000 m³ (30,000 yd³) of LLRW that was approved for Hematite License Amendment 60. As such, the cumulative impacts on the USEI facility and surrounding environment resulting from the receipt of the waste material described in the May 2009 request, the January 2012 request, and the waste material contained in the May 2013 request were considered.

In 2002, WEC and the Missouri Department of Natural Resources (MDNR) entered into a Letter Agreement, which, among other things, provided for MDNR oversight of certain studies and response actions in accordance with the National Oil and Hazardous Substances Pollution Contingency Plan under the requirements of the Comprehensive Environmental Response, Compensation, and Liability Act (CERCLA), 42 U.S.C. § 9601 et seq. (Westinghouse MDNR Review Draft Remedial Design Work Plan, 2002 (ADAMS Accession No. ML020880266)).

Subsequently, Missouri and WEC entered into a Consent Decree, and the Letter Agreement was terminated. The Consent Decree provides for MDNR oversight of those portions of the investigation and selection of the remedy for Operable Units at the site that are not preempted by the Atomic Energy Act of 1954, as amended. The Selected Remedy for Operable Unit 1 at the HDP is Alternative 4: Removal, Treatment of Volatile Organic Compound Waste, and Off-site Disposal of Low-Level Radioactive Waste and Non-Hazardous Treatment Residues.

The no-action alternative involves discontinuing ongoing decommissioning activities at the HDP and leaving soil and soil-like waste at the HDP site. This action would require an exemption from the requirement in 10 CFR 70.38(d) that decommissioning of facilities specifically licensed for possession and use of special nuclear material be completed and approved by the NRC after licensed activities cease. The no-action alternative would result in leaving approximately 22,000 m³ of total waste volume onsite.

As was previously noted, the radiologically contaminated remediation waste, regulated by the NRC is co-mingled with chemically contaminated waste regulated under CERCLA. The “no-action alternative” would not be in accordance with the July 2009 CERCLA Record of Decision (http://www.dnr.mo.gov/env/hwp/docs/20090721HRSFINALROD.pdf) for removal and subsequent treatment of the chemically contaminated waste.

The no-action alternative would not allow WEC to meet the requirements of 10 CFR 20.1402 for unrestricted release. Selection of this alternative would require WEC to continue environmental monitoring/surveillance and to maintain administrative and engineered controls to ensure facility safety and security. The environmental impacts of the no-action alternative would include continued contamination of soil and water, which could further escalate over time if groundwater contamination spreads and material such as Technicium-99 (Tc-99), continues to leach into the soil. The continued monitoring required at the site would result in environmental impacts due to the emissions from vehicular traffic associated with workers traversing to and from the site and entities providing services and supplies to the Hematite facility. Additional vehicular traffic could also impact public and occupational health with the potential for vehicle accidents.

Another alternative to the proposed action is to dispose of the LLRW in a facility licensed by an NRC Agreement State for the storage and/or disposal of LLRW. For this EA, the NRC evaluated the EnergySolutions, LLC (EnergySolutions) Clive Utah facility as the alternative disposal site for the radioactive and chemically hazardous waste.

The EnergySolutions LLRW disposal facility at Clive, Utah is located 128 kilometers (80 miles) west of Salt Lake City, Utah and 70 kilometers (45 miles) east of Wendover, Nevada. The site is arid with an annual precipitation of approximately 20 centimeters (8 inches). The facility is licensed by the State of Utah to dispose of Class A radioactive waste only (Utah License 2300249) and 11e.(2) byproduct material (UT2300478) and holds a Part B Resource Conservation and Recovery Act (RCRA) solid waste permit (Environmental Protection Agency ID No. UTD982598898).

The selection of this alternative would allow WEC to meet the requirements of 10 CFR 20.1402 for unrestricted release. In addition, this site is environmentally similar to USEI. However, this alternative was not selected by the licensee.

lIl. Finding of No Significant Impact

On the basis of the EA (ADAMS Accession No. ML13269A308), the NRC has concluded that there are no significant environmental impacts from the proposed actions and the issuance of a license amendment and the associated exemptions does not warrant the preparation of an Environmental Impact Statement. Accordingly, it has been determined that a Finding of No Significant Impact is appropriate.

Dated at Rockville, Maryland, this 29th day of November, 2013.
For The Nuclear Regulatory Commission.
Andrew Persinko,
Deputy Director, Decommissioning and Uranium Recovery Licensing Directorate, Division of Waste Management and Environmental Protection, Office of Federal and State Materials and Environmental Management Programs.

[FR Doc. 2013-30532 Filed 12-23-13; 8:45 am]

BILLING CODE 7590-01-P